DEPARTMENT OF ENERGY

Federal Energy Regulatory Commission

[Docket No. ER03-1091-001, et al.]

Pacific Gas and Electric Company, et al.; Electric Rate and Corporate Filings

April 23, 2004.

The following filings have been made with the Commission. The filings are listed in ascending order within each docket classification.

1. Pacific Gas and Electric Company

[Docket No. ER03-1091-001]

Take notice that on April 15, 2004 Pacific Gas and Electric Company (PG&E), tendered for filing pursuant to 18 CFR 385.602 (2003) on behalf of itself and Duke Energy Morro bay LLC, Lompac Wind Project LLC and Global Renewable Energy Partners, Inc. (collectively, the Sponsoring Parties), submit this Officer of Settlement in Docket No. ER03-1091-001.

Comment Date: May 6, 2004.

2. Kansas Gas and Electric Company

[Docket No. ES04-26-000]

Take notice that on April 16, 2004, Kansas Gas and Electric Company (KGE) submitted an application pursuant to section 204 of the Federal Power Act requesting that the Commission: (1) Authorize the pledge of mortgage bonds in an aggregate amount not to exceed $500 million; and (2) authorize the issuance of one or more guaranties to secure in each case up to an aggregate of $500 million of short-term debt securities of KGE's sole shareholder, Westar Energy, Inc.

KGE also requests a waiver from the Commission's competitive bidding and negotiated placement requirements at 18 CFR 34.2.

Comment Date: May 12, 2004.

3. Kansas Gas and Electric Company

[Docket No. ES04-27-000]

Take notice that on April 16, 2004, Kansas Gas and Electric Company (KGE) submitted an application pursuant to section 204 of the Federal Power Act requesting that the Commission: (1) Authorize the issuance of short-term debt securities in an amount not to exceed $500 million; and (2) authorize the pledge of mortgage bonds in an aggregate amount not to exceed $500 million to secure such short-term debt.

KGE also requests a waiver from the Commission's competitive bidding and negotiated placement requirements at 18 CFR 34.2.

Comment Date: May 12, 2004.

4. Westar Energy, Inc.

[Docket No. ES04-28-000]

Take notice that on April 16, 2004, Westar Energy, Inc. (Westar) submitted an application pursuant to section 204 of the Federal Power Act requesting that the Commission: (1) Authorize the issuance of short-term debt securities in an amount not to exceed $500 million; and (2) authorize the pledge of mortgage bonds in an aggregate amount not to exceed $500 million to secure such short-term debt.

KGE also requests a waiver from the Commission's competitive bidding and negotiated placement requirements at 18 CFR 34.2.

Comment Date: May 12, 2004.

5. ISO New England Inc.

[Docket No. ES04-29-000]

Take notice that on April 19, 2004, ISO New England Inc (ISO NE) submitted an application pursuant to section 204 of the Federal Power Act requesting that the Commission authorize the issuance of unsecured promissory notes for: (1) A $15 million revolving line of credit for working capital needs; and (2) a $4 million line of credit supporting the Payment Default Shortfall Fund.

Comment Date: May 12, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-968 Filed 4-29-04; 8:45 am]

BILLING CODE 6717-01-P